DEPARTMENT OF COMMERCE

Foreign-Trade Zones Board

[S-134-2018]

Foreign-Trade Zone 259—Koochiching County, Minnesota; Application for Subzone; Digi-Key Corporation; Thief River Falls, Minnesota

An application has been submitted to the Foreign-Trade Zones (FTZ) Board by the Koochiching Economic Development Authority, grantee of FTZ 259, requesting subzone status for the facilities of Digi-Key Corporation, located in Thief River Falls, Minnesota. The application was submitted pursuant to the provisions of the Foreign-Trade Zones Act, as amended (19 U.S.C. 81a-81u), and the regulations of the FTZ Board (15 CFR part 400). It was formally docketed on August 24, 2018.

The proposed subzone would consist of the following sites: Site 1 (130.7 acres) 701 Brooks Avenue, Thief River Falls, Pennington County; and Site 2 (4.19 acres) 121 Arnold Avenue, Thief River Falls, Pennington County. A notification of proposed production activity has been submitted and will be published separately for public comment under 15 CFR 400.37. The proposed subzone would be subject to the existing activation limit of FTZ 259.

In accordance with the FTZ Board's regulations, Elizabeth Whiteman of the FTZ Staff is designated examiner to review the application and make recommendations to the Executive Secretary.

Public comment is invited from interested parties. Submissions shall be addressed to the FTZ Board's Executive Secretary at the address below. The closing period for their receipt is October 10, 2018. Rebuttal comments in response to material submitted during the foregoing period may be submitted during the subsequent 15-day period to October 25, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Elizabeth Whiteman at Elizabeth.Whiteman@trade.gov or (202) 482-0473.

Dated: August 27, 2018.
Andrew McGilvray,
Executive Secretary.

[FR Doc. 2018-18967 Filed 8-30-18; 8:45 am]

BILLING CODE 3510-DS-P